INTERNATIONAL TRADE COMMISSION

[Investigation No. 337-TA-1387]

Certain Electronic Computing Devices, and Components and Modules Thereof Notice of a Commission Determination Not To Review an Initial Determination Granting a Joint Motion To Terminate the Investigation in Its Entirety Based Upon Settlement

AGENCY: U.S. International Trade Commission.

ACTION: Notice.

SUMMARY: Notice is hereby given that the U.S. International Trade Commission (“Commission”) has determined not to review an initial determination (“ID”) (Order No. 39) of the presiding administrative law judge (“ALJ”), granting a joint motion to terminate the investigation in its entirety based upon settlement.

FOR FURTHER INFORMATION CONTACT: Panyin A. Hughes, Office of the General Counsel, U.S. International Trade Commission, 500 E Street SW, Washington, DC 20436, telephone (202) 205-3042. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: On January 18, 2024, the Commission instituted this investigation based on a complaint filed by Telefonaktiebolaget LM Ericsson of Stockholm, Sweden (“Ericsson”). 89 FR 3427-28 (Jan. 18, 2024). The complaint alleged violations of section 337 based on the importation into the United States, the sale for importation, or the sale within the United States after importation of certain electronic computing devices, and components and modules thereof by reason of infringement of claims 1-3, 5-7, 9-11, 14, 15, and 16 of U.S. Patent No. 9,641,841 (“the '841 patent”); claims 1-7 and 10-16 of U.S. Patent No. 10,142,659 (“the '659 patent”); claims 1-19 of U.S. Patent No. 10,708,618 (“the '618 patent”); and claims 1-9 of U.S. Patent No. 10,708,613 (“the '613 patent”). Id. The Commission's notice of investigation named the following respondents: Lenovo (United States) Inc. of Morrisville, North Carolina; Lenovo (Shanghai) Electronics Technology Co., Ltd. of Shanghai, China; Lenovo Beijing Co., Limited of Beijing, China; Lenovo PC HK Limited of Hong Kong; Lenovo Information Products (Shenzhen) Co. Ltd. of Shenzhen, China (collectively, “Lenovo”); and Lenovo Group Limited of Beijing, China (“LGL”). The Office of Unfair Import Investigations (“OUII”) was also named as a party in this investigation. Id.

The Commission terminated the investigation as to LGL because LGL does not import into the United States, sell for importation, or sell within the United States the accused products. Order No. 16 (Aug. 20, 2024), unreviewed by Comm'n Notice (Sept. 16, 2024).

The Commission terminated the investigation as to all asserted claims of the '613 patent, claims 1-8 and 10-19 of the '618 patent, claims 1-3, 5-7, 9, and 14-16 of the '841 patent, and claims 1-3, 5, 6, and 13-16 of the '659 patent. Order No. 17 (Sept. 9, 2024), unreviewed by Comm'n Notice (Oct. 8, 2024); Order No. 33 (Oct. 17, 2024), unreviewed by Comm'n Notice (Nov. 5, 2025).

On April 17, 2025, Ericsson and Lenovo filed a joint motion to terminate the investigation in its entirety based upon settlement. On April 28, 2025, OUII filed a response in support of the motion.

On May 8, 2025, the ALJ issued the subject ID (Order No. 39) granting the motion. The ID noted that Commission Rule 210.21(a)(2) provides that “[a]ny party may move at any time to terminate an investigation in whole or in part as to any or all respondents on the basis of a settlement, a licensing or other agreement . . . .” ID at 2. The ID found that the motion complies with Commission Rule 210.21(b). Id. at 2. The ID further found that in accordance with Commission Rule 210.21(b)(1), the motion states that apart from the Confidential Patent License Agreement and Confidential Arbitration Agreement “there are no other agreements, written or oral, express or implied between the private parties concerning the subject matter of this Investigation.” Id. at 3. The ID also found that terminating the investigation will not adversely impact the public interest. Id. No one petitioned for review of the ID.

The Commission has determined not to review the subject ID. The investigation is hereby terminated in its entirety.

The Commission vote for this determination took place on May 27, 2025. The authority for the Commission's determination is contained in section 337 of the Tariff Act of 1930, as amended (19 U.S.C. 1337), and in part 210 of the Commission's Rules of Practice and Procedure (19 CFR part 210).

By order of the Commission.
Issued: May 28, 2025.
Lisa Barton,
Secretary to the Commission.

[FR Doc. 2025-09898 Filed 5-30-25; 8:45 am]

BILLING CODE 7020-02-P